DEPARTMENT OF DEFENSE

Office of the Secretary

[Docket ID: DOD-2019-OS-0018]

Proposed Collection; Comment Request

AGENCY: Office of the Under Secretary of Defense for Personnel and Readiness, DoD.

ACTION: Information collection notice.

SUMMARY: In compliance with the Paperwork Reduction Act of 1995, the Office of the Under Secretary of Defense for Personnel and Readiness announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 6, 2019.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Military Community and Family Policy, Office of Military Family Readiness, ATTN: Karen Morgan, Alexandria, VA 22350; email karen.s.morgan4.civ@mail.mil or by telephone: (571) 372-0859 or FAX: (571) 372-0884.

SUPPLEMENTARY INFORMATION:

Title; Associated Form; and OMB Number: Department of Defense Consent to Conduct Installation Records Checks (IRC); DD Form 3058; OMB Control Number 0704-ATAF.

Needs and Uses: The information collection requirement is necessary as part of a criminal history background investigation on individual working, volunteering or residing on military installations who come into regular, recurring contact with children under the age of 18 years. The query of records from the installation the Family Advocacy Central Registry and military law enforcement records and the Defense Central Index of Investigations (DCII) will assist the department in obtaining or maintaining an employment suitability or fitness determination for those individuals working with children on military installations. Programs impacted are referenced within the 34 U.S. Code § 20351 (Crime Control Act of 1990) and include impacted individuals such as employees, DoD contractors, providers, adults residing in a family child care home, volunteers, and others with regular recurring contact with children.

Affected Public: Individuals or households.

Annual Burden Hours: 2,333.

Number of Respondents: 14,000.

Responses per Respondent: 1.

Annual Responses: 14,000.

Average Burden per Response: 10 minutes.

Frequency: As required.

Respondents are DoD contractors, family child care providers, family child care adult family members residing in the home, and specified volunteers who provide child care services for children under age 18. This form will be initiated by DoD staff and will be maintained in the initiating DoD offices and/or appropriate human resources or security offices. Respondents are asked to complete the form upon initial employment/participation; every five years (upon reverification); and/or annually for FCC providers.

Dated: March 1, 2019.
Aaron T. Siegel,
Alternate OSD Federal Register, Liaison Officer, Department of Defense.

[FR Doc. 2019-04089 Filed 3-6-19; 8:45 am]

BILLING CODE 5001-06-P